DEPARTMENT OF HEALTH AND HUMAN SERVICES

Centers for Disease Control and Prevention

National Center for Environmental Health/Agency for Toxic Substances and Disease Registry

The Community and Tribal Subcommittee of the Board of Scientific Counselors (BSC), Centers for Disease Control and Prevention (CDC), National Center for Environmental Health (NCEH)/Agency for Toxic Substances and Disease Registry (ATSDR): Meeting.

In accordance with section 10(a)(2) of the Federal Advisory Committee Act (Pub. L. 92-463), The Centers for Disease Control and Prevention, NCEH/ATSDR announces the following subcommittee meeting:

Time and Date: 5 p.m.—7:30 p.m., December 5, 2006.

Place: Hilton Atlanta Hotel, 225 Courtland Street, Atlanta, Georgia 30303.

Status: Open to the public, limited by the available space. The meeting room accommodates approximately 50 people.

Purpose: Under the charge of the BSC, NCEH/ATSDR the CTS will provide the BSC, NCEH/ATSDR with a forum for community and tribal first-hand perspectives on the interactions and impacts of the NCEH/ATSDR's national and regional policies, practices and programs.

Matters To Be Discussed: The meeting agenda will include a review and discussion on the Coordinating Center's Environmental Justice Policy; discussion on the ongoing NCEH/ATSDR activities related to health disparities and environmental justice; discussion on the ATSDR Environmental Justice Web site; update on the ATSDR Office of Tribal Affairs; and a discussion of the CDC/ATSDR Tribal Consultation Advisory Committee.

Items are subject to change as priorities dictate.

Due to programmatic matters, this Federal Register Notice is being published on less than 15 calendar days notice to the public (41 CFR 102-3.150(b)).

Contact Person for More Information: Individuals interested in attending the meeting, please contact Sandra Malcom, Committee Management Specialist, NCEH/ATSDR, 1600 Clifton Road, Mail Stop E-28, Atlanta, GA 30303, telephone 404/498-0003, fax 404/498-0059; E-mail: smalcom@cdc.gov. The deadline for notification of attendance is November 30, 2006.

The Director, Management Analysis and Services Office, has been delegated the authority to sign Federal Register notices pertaining to announcements of meetings and other committee management activities for both CDC and the National Center for Environmental Health/Agency for Toxic Substances and Disease Registry.

Dated: November 17, 2006.
Alvin Hall,
Director, Management Analysis and Services Office, Centers for Disease Control and Prevention.

[FR Doc. E6-19837 Filed 11-24-06; 8:45 am]

BILLING CODE 4163-18-P